ENVIRONMENTAL PROTECTION AGENCY

[EPA-HQ-OLEM-2020-0354; FRL10016-05-OLEM]

Proposed Information Collection Request; Comment Request; Gathering Data on Results of Newly Required Annual and Triennial Testing To Evaluate the Impacts of U.S. E.P.A.'s 2015 Federal Underground Storage Tank Regulation

AGENCY: Environmental Protection Agency (EPA).

ACTION: Notice.

SUMMARY: The Environmental Protection Agency is planning to submit an information collection request (ICR), “Gathering Data on Results of Newly Required Annual and Triennial Testing to Evaluate the Impacts of U.S. E.P.A.'s 2015 Federal Underground Storage Tank Regulation” (EPA ICR No. 2650.01, OMB Control No. 2050-NEW) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before January 4, 2021.

ADDRESSES: Submit your comments, referencing Docket ID No. EPA-HQ-OLEM-2020-0354, online using www.regulations.gov (our preferred method), by email to oira_submission@omb.eop.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Elizabeth McDermott, Prevention Division, Office of Underground Storage Tanks, Mail Code 5401R, Environmental Protection Agency, 1200 Pennsylvania Ave. NW, Washington, DC 20460; telephone number: 202-564-0646; email address: McDermott.Elizabeth@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This information collection request will allow U.S. E.P.A. to employ a contractor to compile data from private companies providing regular servicing and maintenance to owners of federally regulated underground storage tank systems (USTs).

The contractor will collect and assimilate testing data from several UST servicing companies. The contractor's deliverable will be a database of the performance results over multiple iterations of newly required UST testing procedures in various states across the country. These new tests were required by the 2015 UST regulation and are performed either annually or triennially. The data gathered will be pass/fail results from several testing measures, taken from facilities in 17 states where regulations went into effect soonest. These facilities were first required to be tested sometime after the 2015 federal regulation passed, with the second round of triennial required testing to be completed by October 2021.

The completed dataset of test results will allow EPA to evaluate the effectiveness of several of the newly required measures to prevent fuel releases that was required in the 2015 federal UST regulation. Data will be compiled from UST servicing companies about tests performed prior to the initial testing deadline, and from tests results for regulatory compliance for the second test required either within one year or three years after the initial test (depending on the test requirements). EPA may use the data to identify if, and by how much, testing required by the regulation impacts pass/fail rates over time. EPA is interested in quantitatively assessing if pass/fail rates improve between initial and subsequent rounds of testing in those states where data is collected.

Form Numbers: None.

Respondents/affected entities: UST testing and compliance companies, UST facility owners and operators.

Respondent's obligation to respond: Voluntary.

Estimated number of respondents: 680 (total).

Frequency of response: One-time collection.

Total estimated burden: 9,558 hours (per year). Burden is defined at 5 CFR 1320.03(b).

Total estimated cost: $605,186.40 (per year), includes no annualized capital or operation & maintenance costs.

Changes in Estimates: There is no change of estimate of hours in the total estimated respondent burden. EPA anticipates that the burden hour estimates will not change substantially before final submission to OMB.

Dated: October 29, 2020.
Mark Barolo,
Director, Office of Underground Storage Tanks.

[FR Doc. 2020-24543 Filed 11-4-20; 8:45 am]

BILLING CODE 6560-50-P